FEDERAL COMMUNICATIONS COMMISSION

47 CFR Part 20

[CC Docket No. 94-102; DA 01-1623]

Wireless E911 Compatibility; Public Safety Answering Points

AGENCY: Federal Communications Commission.

ACTION: Proposed rule.

SUMMARY: This document solicits further comment regarding a petition for clarification and/or a declaratory ruling concerning the process by which a Public Safety Answering Point (“PSAP”) makes a valid request for Phase II enhanced 911 (“E911”) service from a wireless carrier as provided for in the Commission's rules. It seeks comment on whether the rule should be amended to clarify its meaning and/or adopt criteria.

DATES: Comments are due on or before July 25, 2001, and reply comments are due on or before August 6, 2001.

ADDRESSES: Federal Communications Commission, Office of the Secretary, Room TW-A325, 445 12th Street, SW., Washington, DC 20554.

FOR FURTHER INFORMATION CONTACT: Peter Wolfe, 202-418-1310.

SUPPLEMENTARY INFORMATION: This is a summary of the Commission's document in CC Docket No. 94-102; DA 01-1623, released July 10, 2001. The complete text of this document is available for inspection and copying during normal business hours in the FCC Reference Information Center, Courtyard Level, 445 12th Street, SW., Washington, DC, and also may be purchased from the Commission's copy contractor, International Transcription Services (ITS, Inc.), CY-B400, 445 12th Street, SW., Washington, DC.

Synopsis

1. The Wireless Telecommunications Bureau (“the Bureau”) seeks comment on whether 47 CFR 20.18(j) should be amended to clarify its meaning and/or adopt some criteria as to when a PSAP has made a valid request for Phase II E911 service. Comments were initially sought in a public notice published at 66 FR 19781, April 17, 2001. The Commission seeks now further comment to expand the record.

2. Specifically, the Bureau seeks comment on what objective criteria a PSAP could be required to meet to demonstrate at the time it makes a request that it has taken sufficient steps to assure that it will be able to receive and utilize the E911 data prior to the delivery of service by the carrier. For example, what kinds of identifiable, measurable criteria could be put in place that would reasonably predict for the Commission, carrier, and PSAP whether a PSAP will be ready to receive and utilize Phase II information within six months of a request? Would it be sufficient for the PSAP to show (1) that it has the necessary funding available; (2) that it has purchase orders with vendors that will install the necessary facilities with obligations that the vendors must perform within the 6 month period; and (3) that it has made arrangements with local exchange carriers to supply the necessary trunking, the ALI database, and any other necessary facilities or capabilities in a timely fashion? Would it be sufficient if the PSAP shows that it has implemented Phase I using a Non-Call Path Associated Signaling (NCAS) capability? Would it also be necessary for the PSAP to have a state-of-the-art mapping capability versus a less sophisticated plotting mechanism, or is that a matter of the efficiency of the PSAP's handling the information, not its capability to use it?

Procedural Matters

3. Pursuant to applicable procedures set forth in §§ 1.415 and 1.419 of the Commission's rules, interested parties may file comments in response to the document in CC Docket No. 94-102 on or before July 23, 2001, and reply comments on or before July 30, 2001. Comments and reply comments should be filed in CC Docket No. 94-102 and should include a separate heading to identify the comments for the Docket Number. All relevant and timely comments will be considered by the Commission before final action is taken in this proceeding. To file formally, interested parties must file an original and four copies of all comments, reply comments, and supporting comments. If interested parties want each Commissioner to receive a personal copy of their comments, they must file an original plus nine copies. Interested parties should send comments and reply comments to the Office of the Secretary, Federal Communications Commission, Room TW-A325, 445 Twelfth Street, SW., Washington, DC 20554, with copies to Peter Wolfe, Policy Division, Wireless Telecommunications Bureau at 445 Twelfth Street, SW., Washington, DC 20554.

4. Comments also may be filed using the Commission's Electronic Comment Filing System (ECFS). Comments filed through the ECFS can be sent as an electronic file via the Internet to http://www.fcc.gov/e-mail/ecfs.html. Generally, only one copy of an electronic submission must be filed. In completing the transmittal screen, commenters should include their full name, Postal Service mailing address, and the applicable docket or rulemaking numbers. Parties also may submit an electronic comment by Internet E-Mail. To obtain filing instructions for E-Mail comments, commenters should send an e-mail to ecfs@fcc.gov, and should include the following words in the body of the message, “get form <your E-Mail address>.” A sample form and directions will be sent in reply.

5. Comments and reply comments will be available for public inspection during regular business hours at the FCC Reference Center, Room CY-A257, at the Federal Communications Commission, 445 Twelfth Street, SW., Washington, DC 20554. Copies of comments and reply comments are available through the Commission's duplicating contractor: International Transcription Service, Inc. (ITS, Inc.), 1231 20th Street, NW., Washington, DC 20037, (202) 857-3800.

Initial Regulatory Flexibility Analysis

6. As required by the Regulatory Flexibility Act (RFA), the Bureau has prepared this Initial Regulatory Flexibility Analysis (IRFA) of the possible significant economic impact on small entities by the rule amendments suggested in this document in CC Docket No. 94-102. Written public comments are requested on this IRFA. Comments must be identified as responses to the IRFA and must be filed by the deadlines. The Commission's Consumer Information Bureau, Reference Information Center will send a copy of the document, including the IRFA to the Chief Counsel for Advocacy of the Small Business Administration.

7. This document is to ascertain whether and to what extent the Commission should amend 47 CFR 20.18(j) to clarify the process by which a Public Safety Answering Point (PSAP) makes a valid request for Phase II E911 service. The suggested rule amendment is meant to ensure that all parties involved in providing critical E911 services are aware of their responsibilities in this regard. If the Commission adopts a requirement that PSAPs demonstrate compliance with specified criteria, the purpose will be to enable affected carriers to verify a PSAP's capability to receive and act on Phase II data, thus avoiding costly delays in response time.

8. The suggested action is authorized under sections 1, 4(j), 7(a), 301, 303(c), 303(f), 303(g), 303(r), 308, and 309(j) of the Communications Act of 1934, 47 U.S.C. 151, 154(j),157(a), 301, 303(c), 303(f), 303(g), 303(r), 308, and 309(j).

9. The RFA directs agencies to provide a description of and, where feasible, an estimate of the number of small entities that may be affected by the proposed rules, if adopted. The RFA generally defines the term “small entity” as having the same meaning as the terms “small business,” “small organization,” and “small governmental jurisdiction.” In addition, the term “small business” has the same meaning as the term “small business concern” under section 3 of the Small Business Act, unless the Commission has developed one or more definitions that are appropriate for its activities. Under the Small Business Act, a “small business concern” is one that: (1) Is independently owned and operated; (2) is not dominant in its field of operation; and (3) satisfies any additional criteria established by the Small Business Administration (SBA). A small organization is generally “any not-for-profit enterprise which is independently owned and operated and is not dominant in its field.” Nationwide, as of 1992, there were approximately 275,801 small organizations.

10. The definition of “small governmental entity” is one with populations of fewer than 50,000. There are 85,006 governmental entities in the nation. This number includes such entities as states, counties, cities, utility districts and school districts. There are no figures available on what portion of this number has populations of fewer than 50,00. However, this number includes 38,978 counties, cities and towns, and of those, 37,556, or ninety-six percent, have populations of fewer than 50,000. The Census Bureau estimates that this ratio is approximately accurate for all government entities. Thus, of the 85,006 governmental entities, we estimate that ninety-six percent, or about 81,600, are small entities that may be affected by our rules.

11. Nationwide, there are 4.44 million small business firms, according to SBA reporting data. The applicable definition of small entity is the definition under the SBA rules applicable to radiotelephone (wireless) companies. This provides that a small entity is a radiotelephone company employing no more than 1,500 persons. According to the a report issued by the Federal Communications Commission's Common Carrier Bureau in December 2000, of the 1,495 current wireless service providers, 989 employ l,500 or fewer workers, and 506 employ more than 1,500 workers.

12. The Commission is unable at this time to precisely quantify the specific impact of the suggested actions on these entities at this early point in the proceeding, but invites comment on this issue. The impact will depend on what type of demonstration and criteria (if any) the Commission ultimately adopts. If a demonstration and criteria are adopted, small carriers would find it less burdensome to confirm that a PSAP is indeed capable of participating in E911 service provision. The Commission is acutely aware of its responsibility to balance the needs of the PSAPs, who presumably would need to comply with any demonstration requirement adopted. Therefore, the Commission will carefully consider the affects in time and money on PSAPs of any demonstration requirement or inherent criteria before adopting final rule amendments.

13. The reporting, recordkeeping, or other compliance requirements will depend on what format the demonstration requirement, if adopted, ultimately takes and on what criteria, if any, are adopted. The document is inviting public comment on this issue and is open to any suggestions submitted in this regard. All comments will be carefully considered before final rules are adopted.

14. The RFA requires an agency to describe any significant alternatives that it has considered in reaching its proposed approach, which may include the following four alternatives: (1) The establishment of differing compliance or reporting requirements or timetables that take into account the resources available to small entities; (2) the clarification, consolidation, or simplification of compliance or reporting requirements under the rule for small entities; (3) the use of performance, rather than design standards; (4) an exemption from coverage of the rule, or any part thereof, for small entities.

15. The Commission is severely limited in this proceeding as to minimizing the burden on small entities. The proceeding originates in Congressional mandate with the intention of ultimately offering the most reliable, responsive emergency services technologically possible. The critical nature of this goal demands that all entities involved, regardless of size, bear the same responsibility for complying with requirements adopted to expedite reaching this goal. A delay in response caused by a small entity could result in the same fatal consequences as a delay cased by a large entity. However, if the rule is amended as suggested in the document is adopted, all entities will benefit as indicated in criteria 2 cited above, the clarification of compliance or reporting requirements under the rule. The alternatives at this early point in the proceeding seem to be to leave the rule as it stands, to amend the rule without placing a demonstration burden and criteria on PSAPs, or, if the Commission finds after reviewing the comments filed in response to the document that the benefits of amending the rule and adopting criteria and a demonstration requirement outweigh the additional onus placed on PSAPs, whether a detailed demonstration of compliance or a more general demonstration will suffice to verify PSAP capability to participate in Phase II of the Commission's E911 program. For example, if the rule is amended and PSAPs are asked to demonstrate their compliance with certain criteria, the Commission could allow PSAPs the flexibility to comply with this requirement in whatever manner they believe best demonstrates their capability. This alternative would place a minimal additional reporting burden on PSAPs, but small carriers may find this an inadequate means for determining capability. On the other hand, the Commission could adopt a requirement that clearly states what a satisfactory demonstration must include, thus increasing the reporting burden on PSAPs but allowing no room for confusion over when a PSAP may be considered E911 capable. These are issues on which this document invites comment from all sources.

16. There are no federal rules that may duplicate, overlap, or conflict with the proposed rules.

17. The Commission's Consumer Information Bureau, Reference Information Center, will send a copy of this document including the IRFA to the Chief Counsel for Advocacy of the Small Business Administration. See 5 U.S.C. 604(b).

Ordering Clauses

18. Pursuant to sections 1, 4(i), 201, 251, 303, 309, and 332 of the Communications Act of 1934, as amended, 47 U.S.C. 151, 154(i), 201, 251, 303, 309, and 332, this document is adopted.

Federal Communications Commission.
Thomas J. Sugrue,
Chief, Wireless Telecommunications Bureau.

[FR Doc. 01-17785 Filed 7-13-01; 8:45 am]

BILLING CODE 6712-01-P